DEPARTMENT OF TRANSPORTATION

Federal Motor Carrier Safety Administration

[Docket No. FMCSA-2025-0128]

Application for Employment: CloudTrucks, LLC., Application for Exemption

AGENCY: Federal Motor Carrier Safety Administration (FMCSA), Department of Transportation (DOT).

ACTION: Notice of application for exemption; request for comments.

SUMMARY: FMCSA requests public comment on the application submitted by CloudTrucks, LLC (CloudTrucks) for an exemption from certain requirements of the application for employment regulations. Specifically, CloudTrucks seeks an exemption from the requirement to collect the following information from prospective drivers: list of employers' names, addresses, dates of employment, reason for leaving, nature of the position the driver held, and if the driver was subject to the alcohol and controlled substances testing requirements. Instead, CloudTrucks proposes using its own verification process that consists of cross-referencing national databases to include HireRight's Drive-A-Check (DAC) report, FMCSA's Drug and Alcohol Clearinghouse (DACH), Pre-employment Screening Program (PSP), Commercial Driver's License Information System (CDLIS).

DATES: Comments must be received on or before July 31, 2025.

ADDRESSES: You may submit comments identified by Docket Number FMCSA-2025-0128 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2025-0128) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Ms. Bernadette Walker, Driver and Carrier Operations Division; Office of Carrier, Driver and Vehicle Safety Standards, FMCSA; (202) 366-9220; or bernadette.walker@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2025-0128), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2025-0128/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov insert FMCSA-2025-0128 in the keyword box, select the document tab and choose the document to review. To view comments, click this notice, then click “Browse Comments.” If you do not have access to the internet, you may view the docket by visiting Docket Operations on the ground floor of the DOT West Building, 1200 New Jersey Avenue SE., Washington, DC 20590—0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirement

Under 49 CFR 391.21(b)(10)(i)-(iv), prospective driver employees (meaning applicants) are required to provide prospective motor carrier employers with the following information: name and address of the driver's employers during the 3 years preceding the date of the application, dates of employment, reason for leaving, and for any driver employed after October 29, 2004, confirmation whether the driver candidate held a position that was subject to the Federal Motor Carrier Safety Regulations or designated as safety sensitive by any DOT mode subject to controlled substance and alcohol testing. Under 391.21(b)(11), the information required in 49 CFR 391.21(b)(10) extends to 10 years if the applicant was an operator of a CMV proceeding the 3 years contained in paragraph 49 CFR 391.21(b)(1).

Applicant's Request

CloudTrucks is a motor carrier based in Dallas, TX, that operates a national fleet consisting of over 700 owner-operator power units, transporting general freight, commodities, and retail products across the continental United States. CloudTrucks seeks a five-year exemption from the application for employment requirements in 49 CFR 391.21(b)(10)(i)-(iv) and 391.21(b)(11).

The applicant states that the requirements in 49 CFR 391.21(b)(10)(i)-(iv) and 391.21(b)(11) were created for paper applications and “single-fleet carriers.” The applicant asserts that these requirements are inefficient and yield low response rates, frequent errors, and long cycle times. According to the applicant, the exemption, if granted, would allow the recruiting of qualified drivers at a faster pace, decrease the administrative workload for prior employers, and, most crucially, enhance highway safety by relying on credible federal databases instead of unproductive paper processes.

Applicant's Equivalent Level of Safety

CloudTrucks believes its streamlined approach ensures that an equivalent level of safety will be achieved. To streamline hiring without compromising safety, CloudTrucks currently validates each applicant's background through national databases (PSP, CDLIS, and DACH). The applicant believes this process collectively provides a more accurate and timely safety profile than what the regulations require. According to the applicant, the following actions will ensure that an equivalent or greater level of safety is achieved:

• Use of PSP crash/inspection reports, CDLIS carrier-code matching, and HireRight DAC (DAC) (which applicant asserts this captures every employer that triggered a roadside inspection or filed a DAC, will likely reveal safety problems and is an appropriate substitute for 49 CFR 391.21(b)(10));

• Real-time query of DACH (which applicant notes will ensure a definitive record);

• Obtaining DAC archives and motor vehicle records suspension dates (which applicant notes are fraud-resistant); and

• Bundling of all database reports on each driver into a single PDF document (which applicant asserts makes it easier for investigators to interpret drivers' records maintained by employers).

The applicant included the following additional safeguards it believes ensure it would likely achieve a level of safety equivalent to, or greater than, the level that would be achieved absent such exemption:

• CloudTrucks Safety Score (0-100) is refreshed nightly, factoring in electronic logging device (ELD) compliance, speeding, harsh events, inspections, and crashes.

• A Three-Strikes Program that includes coaching, suspension, and termination for individuals who repeatedly engage in unsafe behavior.

• Continuous monitoring through in-cab telematics.

• A zero-tolerance Clearinghouse policy dictates that any prohibited status leads to immediate disqualification.

Lastly, CloudTrucks' application includes an explanation of a three-pillar safety program that consist of rigorous on-boarding, real-time safety scoring, and three strikes accountability. According to CloudTrucks, “these initiatives give CloudTrucks a proactive, data-rich safety net far exceeding the reactive, low-yield phone/fax processes envisioned in the 1970s-era 49 CFR 391.21.”

A copy of the CloudTrucks LLC's application for exemption is available for review in the docket for this notice.

IV. Request for Comments

In accordance with 49 U.S.C. 31315(b), FMCSA requests public comment from all interested persons on CloudTrucks LLC's application for an exemption from the requirements in 49 CFR 391.21(b)(10) and 49 CFR 391.21(b)(11) to allow the applicant to use its “streamlined verification” process that consists of cross-referencing six nation-wide databases. All comments received before the close of business on the comment closing date will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator of Policy.

[FR Doc. 2025-12205 Filed 6-30-25; 8:45 am]

BILLING CODE 4910-EX-P